SECURITIES AND EXCHANGE COMMISSION

[Release No. 34-60252; File No. SR-NYSEAmex-2009-24]

Self-Regulatory Organizations; NYSE Amex LLC; Order Granting Accelerated Approval to a Proposed Rule Change Amending Rule 70.25 To Permit All Available Contra-Side Liquidity to Trigger the Execution of a d-Quote

Correction

In notice document E9-16545 beginning on page 34067 in the issue of Tuesday, July 14, 2009, make the following correction:

On page 34067, in the first column, the docket number should read as set forth above.

[FR Doc. Z9-16545 Filed 7-27-09; 8:45 am]

BILLING CODE 1505-01-D